DEPARTMENT OF DEFENSE

Office of the Secretary

[Docket ID: DoD-2025-HA-0212]

Submission for OMB Review; Comment Request

AGENCY: Office of the Assistant Secretary of Defense for Health Affairs (OASD(HA)), Department of Defense (DoD).

ACTION: 30-Day information collection notice.

SUMMARY: The DoD has submitted to the Office of Management and Budget (OMB) for clearance the following proposal for collection of information under the provisions of the Paperwork Reduction Act.

DATES: Consideration will be given to all comments received by October 23, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Childbirth and Breastfeeding Demonstration Survey; OMB Control Number 0720-0070.

Type of Request: Reinstatement.

Number of Respondents: 5,925.

Responses per Respondent: 1.

Annual Responses: 5,925.

Average Burden per Response: 10 minutes.

Annual Burden Hours: 988.

Needs and Uses: This survey will be used to evaluate the Childbirth and Breastfeeding Support Demonstration (CBSD), as part of the mandated Reports to Congress. CBSD is a project that will cover services of certain extra medical providers (certified labor doulas, certified lactation consultants, and certified lactation counselors) over a 5-year period. The project is mandated by Congress in the National Defense Authorization Act for Fiscal Year 2021, Section 746. The survey will solicit information from TRICARE beneficiaries who have given birth in the specified reporting period. Results will be used to assist in evaluating the effectiveness of the CBSD project.

Affected Public: Individuals or households.

Frequency: Annually.

Respondent's Obligation: Voluntary.

DOD Clearance Officer: Mr. Reginald Lucas.

Dated: September 19, 2025.
Stephanie J. Bost,
Alternate OSD Federal Register Liaison Officer, Department of Defense.

[FR Doc. 2025-18422 Filed 9-22-25; 8:45 am]

BILLING CODE 6001-FR-P